DEPARTMENT OF AGRICULTURE

Forest Service

Shoshone National Forest; Wyoming; Shoshone National Forest Land Management Plan

AGENCY: Forest Service, USDA.

ACTION: Notice of intent to prepare an environmental impact statement.

SUMMARY: The Rocky Mountain Regional Forester intends to prepare a Supplement to the Environmental Impact Statement (SEIS) for the Shoshone National Forest Revised Land Management Plan. This notice briefly describes the background, purpose and need for action, what is being proposed, and the nature of the decision to be made. Also, the direction restricting pack goat use contained in the May 6, 2015 Revised Forest Plan is hereby retracted along with any references to the 2009 Payette RADT and the 2012 and 2013 Shoshone RADTs.

DATES: The draft SEIS is expected in April 2017 and the final SEIS is expected in August 2017.

ADDRESSES: For further information, mail correspondence to Casey McQuiston, Resources Staff Officer, Shoshone National Forest, 808 Meadow Lane Ave., Cody, WY 82414. Or email cmcquiston@fs.fed.us.

FOR FURTHER INFORMATION CONTACT: Casey McQuiston, Resources Staff Officer, Shoshone National Forest, 808 Meadow Lane Ave., Cody, WY 82414. (307) 578-5134 or cmcquiston@fs.fed.us.

SUPPLEMENTARY INFORMATION: On May 6, 2015, the Rocky Mountain Regional Forester signed the Record of Decision (ROD) revising the Shoshone National Forest Land Management Plan (LMP).

The May 6, 2015 Revised LMP included standards and guidelines restricting the use of recreational pack goats, and domestic sheep and goat grazing, where it was determined that there was unacceptable risk of disease transmission from the pack goats or domestic sheep to bighorn sheep. Bighorn sheep are a sensitive species on the Shoshone National Forest.

In June 2015, the North American Packgoat Association joined the Idaho Wool Growers Association and filed a Motion for Contempt with the U.S. District Court for the District of Idaho. The plaintiffs alleged that the Forest Service improperly relied on a report that the Court had previously found to be in violation of the Federal Advisory Committee Act (FACA) when the Shoshone National Forest prepared its 2012 and 2013 Risk Assessment of Disease Transmission (RADT) reports, which the Shoshone relied upon for the bighorn sheep analysis in the forest plan revision effort. The Idaho District Court's 2009 decision prohibited the Forest Service from relying on the findings and conclusions of two Payette reports that pertained to disease transmission between domestic sheep and bighorn sheep on the Payette National Forest.

In February 2016, the District Court granted plaintiff's motion for contempt finding that the Shoshone RADT reports had relied on the findings and conclusions in the Payette reports. On July 9, 2016, the parties agreed to a stipulated settlement.

In accordance with the July 2016 Stipulated Settlement Agreement, the direction restricting pack goat use contained in the May 6, 2015 Revised Forest Plan is hereby retracted along with any references to the 2009 Payette RADT and the 2012 and 2013 Shoshone RADT reports.

The Regional Forester must now consider whether the revised Forest Plan should include direction regarding management of domestic sheep and goats to limit the potential for disease transmission to bighorn sheep, and, if so, whether there are differences in the potential for disease transmission from domestic sheep, domestic goats, or packgoats, to wild bighorn sheep that warrant different management approaches.

The Regional Forester will prepare a Supplement to the Environmental Impact Statement (SEIS) and a new RADT report consistent with the National Environmental Policy Act and all applicable laws and regulations pertinent to the revision of the Shoshone LMP. The SEIS will document analysis of the potential for disease transmission between domestic sheep, domestic goats, and packgoats; and wild bighorn sheep on the Shoshone National Forest. The analysis shall consider whether there are differences in the potential for disease transmission by domestic sheep, domestic goats, and packgoats to wild bighorn sheep.

Purpose and Need for Action

The purpose of the federal action being considered here is to determine what, if any, use by domestic sheep, domestic goats, or pack goats is appropriate within the Shoshone National Forest and what direction, if any, should be included in the revised LMP. The need for this action was driven by the 2016 Stipulated Settlement Agreement and will be accomplished by analyzing the risk of disease transmission from domestic sheep and goats and pack goats to bighorn sheep.

Proposed Action

The Shoshone National Forest proposes to limit areas where domestic sheep allotments are stocked and restrict the use of domestic goats and packgoats on the Shoshone National Forest in order to reduce the risk of disease transmission to bighorn sheep. These restrictions would be incorporated into the LMP through the following plan components:

Desired Condition—Low risk of disease transmission from domestic sheep and/or goats within the Shoshone national Forest.

SENS-Goal-03—Maintain low risk of disease transmission from domestic sheep and domestic goats to wild bighorn sheep within core bighorn sheep ranges.

SENS-Standard-05—Domestic sheep and goat allotments shall not overlap with core native bighorn sheep ranges.

SENS-Standard-06—Do not allow recreational pack goat use in core native bighorn sheep ranges.

SENS-Guideline-03—On bighorn sheep crucial winter range, management activities that disturb bighorn sheep should be conducted outside the season of use (December 1 through April 30), or designed to reduce disturbance to bighorn sheep when the activity is necessary to sustain or improve bighorn sheep crucial winter range conditions.

SENS-Guideline-06—Restrict disturbances near concentrated bighorn sheep lambing areas between April 1 and June 30 with a minimum distance of 1 mile from the lambing site. Short-term projects designed to improve bighorn sheep habitat such as prescribed burning may be exempt.

SENS-Guideline-12—Outfitter and guide authorizations for recreational goat packing in core bighorn sheep ranges will not be issued.

Management Approach—A wildlife program emphasis for bighorn sheep is to reduce the risk of disease transmission from domestic sheep and goats to bighorn sheep. There is a concern about the risk of disease transmission to bighorn sheep from domestic goats used for packing. To minimize that risk, guidelines are applied for domestic pack goats within the Shoshone National Forest; domestic sheep and goat grazing has been removed from core native bighorn sheep ranges. Authorizations for pack goat use in core bighorn sheep ranges will not be issued.

Possible Alternatives

Alternative 1, No Action: There would be no change in domestic sheep management and packgoat use would be allowed on the Shoshone National Forest.

Alternative 2, Proposed Action: Domestic sheep and domestic goat grazing would be allowed on the current allotment allocated for sheep and goats. Packgoat use would be prohibited from core native bighorn sheep ranges.

Alternative 3: Domestic sheep and domestic goat grazing would be allowed on the current allotment allocated for sheep and goats. Packgoat use would be prohibited from core native bighorn sheep ranges and approved through a permit process once a scientifically proven and viable mitigation is developed and approved.

Lead and Cooperating Agencies

Cooperating Agency: Wyoming Game and Fish Department.

Responsible Official

Brian Ferebee, Regional Forester, Rocky Mountain Region, 740 Simms Street, Golden, Colorado 80491.

Nature of Decision To Be Made

Based upon the effects of the alternatives, the responsible official will decide how to address the potential risk of disease transmission from domestic sheep and goats, and packgoats to bighorn sheep.

Scoping Process

The Regional Forester will rely on the previous scoping efforts conducted in preparation for the Environmental Impact Statement for the Shoshone National Forest Plan Revision.

Preliminary Issues

There is potential for disease transmission from domestic sheep, domestic goats, and pack goats, to wild bighorn sheep.

There are differences in the potential for disease transmission by domestic sheep, domestic goats or pack goats to bighorn sheep.

There are minimal options for reducing potential for contact and disease transmission.

Contact between bighorn sheep and domestic sheep, domestic goats, and pack goats increases the risk of disease transmission to bighorn sheep.

Early Notice of Importance of Public Participation in Subsequent Environmental Review: A draft supplemental environmental impact statement will be prepared for comment. The comment period on the draft environmental impact statement will be 90 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 90-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: March 24, 2017.
Glenn P. Casamassa,
Associate Deptuy Chief, National Forest System.

[FR Doc. 2017-06391 Filed 3-30-17; 8:45 am]

BILLING CODE 3411-15-P